DEPARTMENT OF ENERGY

10 CFR Chs. II, III, and X

48 CFR Ch. 9

Spring 2025 Unified Agenda of Federal Regulatory and Deregulatory Actions

AGENCY: Department of Energy.

ACTION: Semiannual Regulatory Agenda.

SUMMARY: The Department of Energy (DOE) has prepared and is making available its portion of the semi-annual Unified Agenda of Federal Regulatory and Deregulatory Actions (Agenda) pursuant to Executive Order 12866, “Regulatory Planning and Review,” reaffirmed E.O. 13563, “Improving Regulation and Regulatory Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act, as amended, and programmatic needs of DOE offices.

The internet is the basic means for disseminating the Agenda and providing users the ability to obtain information from the Agenda database. DOE's Fall 2024 Agenda can be accessed online by going to www.reginfo.gov.

Publication in the Federal Register is mandated by the Regulatory Flexibility Act (5 U.S.C. 602) only for Agenda entries that require either a regulatory flexibility analysis or periodic review under section 610 of that Act.

Jeffrey Novak,
Acting General Counsel.

Energy Efficiency and Renewable Energy—Completed Actions
Sequence No. | Title | Regulation Identifier No.
58 | Energy Conservation Standards for Walk-In Coolers and Freezers | 1904-AD79
59 | Energy Conservation Standards for Commercial Refrigerators, Freezers, and Refrigerator-Freezers | 1904-AD82
60 | Energy Conservation Standards for Consumer Water Heaters | 1904-AD91
61 | Energy Conservation Program: Energy Conservation Standards for Manufactured Housing | 1904-AF73

Department of Energy (DOE): Energy Efficiency and Renewable Energy (EE) | Completed Actions

58. ENERGY CONSERVATION STANDARDS FOR WALK-IN COOLERS AND FREEZERS [1904-AD79]

Legal Authority: 42 U.S.C. 6311(1)(G); 42 U.S.C. 6313 (f)

Abstract: Pursuant to the Congressional Review Act, the U.S. Department of Energy withdraws a disapproved final rule that was published in the Federal Register on December 23, 2024. The final rule would have established amended energy conservation standards for walk-in coolers and walk-in freezers. The House and the Senate subsequently passed House Joint Resolution 24 (H.J.Res. 24), which disapproved DOE's December 23, 2024 final rule under the Congressional Review Act (CRA; 5 U.S.C. 801-808). H.J.Res. 24 was sent to the President for signature on May 5, 2025, and it was subsequently signed by the President on May 9, 2025. Because the December 23, 2024 DOE final rule was disapproved, the Department withdrew the rule from the Federal Register because the rule no longer has force or effect.

Completed:

Reason | Date | FR Cite
Final Rule | 12/23/24 | 89 FR 104616
Final Rule; Delay of Effective Date | 02/20/25 | 90 FR 9951
Final Rule; Delay of Effective Date | 03/20/25 | 90 FR 13054
Final Rule; Withdrawal | 05/20/25 | 90 FR 21391

Regulatory Flexibility Analysis Required: Yes

Agency Contact: Troy Watson

Phone: 240 449-9387

Email: troy.watson@ee.doe.gov

RIN: 1904-AD79

59. ENERGY CONSERVATION STANDARDS FOR COMMERCIAL REFRIGERATORS, FREEZERS, AND REFRIGERATOR-FREEZERS [1904-AD82]

Legal Authority: 42 U.S.C. 6313(c)

Abstract: Pursuant to the Congressional Review Act, the U.S. Department of Energy withdraws a disapproved final rule that was published in the Federal Register on January 21, 2025. The final rule would have established amended energy conservation standards for commercial refrigerators, freezers, and refrigerator-freezers. The House and the Senate passed House Joint Resolution 75 (H.J.Res. 75), which disapproved DOE's January 21, 2025 final rule under the Congressional Review Act (CRA; 5 U.S.C. 801-808). H.J.Res. 75 was sent to the President for signature on May 6, 2025, and it was subsequently signed by the President on May 9, 2025. Because the January 21, 2025 DOE final rule was disapproved, the Department withdrew the rule from the Federal Register because the rule no longer has force or effect.

Completed:

Reason | Date | FR Cite
Final Rule | 01/21/25 | 90 FR 7464
Final Rule; Delay of Effective Date | 03/07/25 | 90 FR 11466
Final Rule Effective | 05/20/25 |
Final Rule; Withdrawal | 05/20/25 | 90 FR 21392

Regulatory Flexibility Analysis Required: Yes

Agency Contact: Jeremy Dommu

Phone: 202 586-9870

Email: jeremy.dommu@ee.doe.gov

RIN: 1904-AD82

60. ENERGY CONSERVATION STANDARDS FOR CONSUMER WATER HEATERS [1904-AD91]

Legal Authority: 42 U.S.C. 6295(m)(1)

Abstract: The Energy Policy and Conservation Act, as amended (EPCA), prescribes energy conservation standards for various consumer products and certain commercial and industrial equipment, including consumer water heaters. EPCA also requires the U.S. Department of Energy (DOE) to periodically determine whether more stringent standards would be technologically feasible and economically justified, and would result in significant energy savings. In the final rule, DOE has adopted amended energy conservation standards for consumer water heaters, except for gas-fired instantaneous water heaters (GIWHs). DOE has determined that the new and amended energy conservation standards for these products would result in significant conservation of energy, and are technologically feasible and economically justified. DOE is still considering amended energy conservation standards for GIWHs and will continue to consider comments submitted previously to inform any decision on amended standards.

Completed:

Reason | Date | FR Cite
Final Action | 05/06/24 | 89 FR 37778
Final Action Effective | 07/05/24 |

Regulatory Flexibility Analysis Required: Yes

Agency Contact: Julia Hegarty

Phone: 240 597-6737

Email: julia.hegarty@ee.doe.gov

RIN: 1904-AD91

61. • ENERGY CONSERVATION PROGRAM: ENERGY CONSERVATION STANDARDS FOR MANUFACTURED HOUSING [1904-AF73]

Legal Authority: 42 U.S.C. 17071

Abstract: The U.S. Department of Energy (DOE) is publishing a notice of proposed rulemaking to amend the compliance date for its manufactured housing energy conservation standards. Currently, manufacturers must comply with these standards on and after July 1, 2025 for Tier 2 homes and 60 days after the issuance of enforcement procedures for Tier 1 homes. DOE is proposing to delay the Tier 2 compliance date to allow DOE more time to continue to consider the proposed enforcement procedures and comments submitted, and to evaluate appropriate next steps that provide clarity for manufacturers and other stakeholders.

Timetable:

Action | Date | FR Cite
NPRM | 04/24/25 | 90 FR 17230
NPRM Comment Period End | 05/27/25 |
Final Rule | 07/02/25 | 90 FR 28873
Final Rule Effective | 07/02/25 |

Regulatory Flexibility Analysis Required: Yes

Agency Contact: Lucas Adin, Project Manager, Department of Energy, Energy Efficiency and Renewable Energy, 1000 Independence Avenue SW, Mail Stop EE-5B, Washington, DC 20585

Phone: 202 287-5904

Email: lucas.adin@ee.doe.gov

RIN: 1904-AF73

[FR Doc. Filed 08-18-25; 0:00 a.m.]

BILLING CODE 6450-01-P

[FR Doc. 2025-18327 Filed 9-19-25; 8:45 am]

BILLING CODE 6450-01-P